NUCLEAR REGULATORY COMMISSION

[Docket Nos. 52-018 and 52-019]

Duke Energy Carolinas, LLC; Correction to Notice of Hearing and Opportunity To Petition for Leave To Intervene and Order Imposing Procedures for Access to Sensitive Unclassified Non-Safeguards Information and Safeguards Information for Contention Preparation on a Combined License for the William States Lee III Units 1 and 2

AGENCY: Nuclear Regulatory Commission.

ACTION: Notice of Issuance; correction.

SUMMARY: This document corrects a notice appearing in the Federal Register of April 28, 2008 (73 FR 22978), that incorrectly referenced the name of the applicant. This action is necessary to correct an erroneous name.

FOR FURTHER INFORMATION CONTACT: B. Hughes, Office of New Reactors, U.S. Nuclear Regulatory Commission, Washington, DC 20555-0001; telephone (301) 415-6582, e-mail: Brian.Hughes@nrc.gov.

SUPPLEMENTARY INFORMATION: 1. The subject heading of the notice of hearing is corrected by changing “Duke Energy” to “Duke Energy Carolinas, LLC.”

2. On page 22978, in the third column, in the first complete paragraph, twentieth line, “Duke Energy” is corrected to read “Duke Energy Carolinas, LLC.”

Dated at Rockville, Maryland, this 11th day of June 2008.
For the Nuclear Regulatory Commission.
Annette L. Vietti-Cook,
Secretary of the Commission.

[FR Doc. E8-13575 Filed 6-16-08; 8:45 am]

BILLING CODE 7590-01-P